DEPARTMENT OF THE INTERIOR

Bureau of Land Management

Notice of Availability of the Final Environmental Impact Statement for the Cross-Tie 500-kV Transmission Project in Beaver, Juab, and Millard Counties, Utah, and Lincoln, Nye, and White Pine Counties, Nevada

AGENCY: Bureau of Land Management, Interior.

ACTION: Notice of availability.

SUMMARY: In compliance with the National Environmental Policy Act of 1969, as amended (NEPA), and the Federal Land Policy and Management Act of 1976, as amended (FLPMA), the Bureau of Land Management (BLM) and the United States Department of Agriculture—Forest Service (USDA Forest Service) announce the availability of the Cross-Tie 500-kilovolt (kV) Transmission Project (Cross-Tie Project or Project) Final Environmental Impact Statement (FEIS).

DATES: The BLM will not issue a decision on the proposal for a minimum of 30 days after the date the Environmental Protection Agency (EPA) publishes its Notice of Availability (NOA) of the FEIS in the Federal Register. The EPA usually publishes its NOAs on Fridays. The USDA Forest Service may issue a Record of Decision (ROD) after the pre-decisional administrative review process, also known as the objection process, has ended and the Reviewing Officer has responded in writing to all objections, and all concerns and instructions identified by the Reviewing Officer in the objection response have been addressed by the Responsible Official. The availability period and objection filing period will run concurrently. Following the conclusion of that availability period and objection process, RODs signed by the BLM and USDA Forest Service will document both agency's final decisions and identify any conditions of approval.

ADDRESSES: Copies of the Final EIS and documents pertinent to this proposal are electronically available for review on the BLM ePlanning project website at https://eplanning.blm.gov/eplanning-ui/project/2018636/510 and copies of the Final EIS may be examined at the following locations:

• BLM Bristlecone Field Office and Ely District Office, 702 North Industrial Way, Ely, Nevada 89301;

• BLM Caliente Field Office, 1400 Front Street, Caliente, Nevada, 89008;

• BLM Cedar City Field Office and Color Country District Office, 176 East D.L. Sargent Drive, Cedar City, Utah 84721;

• BLM Fillmore Field Office, 95 East 500 North, Fillmore, Utah 84631;

• BLM West Desert District Office, 491 North John Glenn Road, Salt Lake City, Utah 84116

• Forest Service Humboldt-Toiyabe National Forest Ely Ranger District, 825 Avenue E, Ely, Nevada, 89301; and

• Forest Service Humboldt-Toiyabe National Forest Supervisor's Office, 1200 Franklin Way, Sparks, Nevada, 89431.

FOR FURTHER INFORMATION CONTACT: Amber Koski, BLM Project Manager, telephone 435-743-3125, address 95 East 500 North, Fillmore, Utah 84631, or blm_ut_fm_cross-tie_project@blm.gov. Individuals in the United States who are deaf, deaf blind, hard of hearing, or have a speech disability, please dial 711 (TTY, TDD, or TeleBraille) to access telecommunication relay services. Individuals outside the United States should use the relay services offered within their country to make international calls to the point-of-contact in the United States.

SUPPLEMENTARY INFORMATION: The applicant, TransCanyon LLC (TransCanyon), submitted an Application for Transportation and Utility Systems and Facilities on Federal Lands (Standard Form 299) and a draft Plan of Development to the BLM and USDA Forest Service for a permanent facility BLM right-of-way (ROW) and a Forest Service special use permit (SUP) for the construction, operation and maintenance (O&M), and decommissioning of the Cross-Tie 500-kV Transmission Project.

The BLM Fillmore Field Office, in coordination with cooperating agencies, prepared an EIS to analyze potential impacts from the Project and alternatives. New permanent and temporary land authorizations would be required to construct, operate, and maintain Project components. In Utah, TransCanyon's Proposed Action would cross 110 miles of BLM land, 14 miles of State land, and 18 miles of private land, totaling 141 miles. In Nevada, TransCanyon's Proposed Action would cross 63 miles of BLM land, eight miles of National Forest System land, four miles of private land, and one mile of State land, totaling 76 miles. TransCanyon would obtain these land rights through ROW grants from the BLM, a SUP from the Forest Service, and easements or fee purchases for non-Federal lands.

Purpose and Need for the Proposed Action

The purpose of this BLM Federal action is to respond to the ROW application submitted by TransCanyon for the construction, O&M, and decommissioning of the proposed transmission line between central Utah and east-central Nevada. The need for Federal action is established by the BLM's responsibilities under title V of FLPMA (43 U.S.C. 1761), the BLM's ROW regulations at 43 CFR part 2800, and other applicable Federal laws and policies to grant ROWs over public land.

The purpose and need of the Forest Service Federal action is to respond to an application for a SUP submitted by TransCanyon for the construction, O&M, and decommissioning of the proposed 500-kV transmission line on National Forest System land in east-central Nevada in compliance with FLPMA and the National Forest Management Act (16 U.S.C. 1601-1614), as well as the Humboldt National Forest Land and Resource Management Plan, as amended, which provides forest-wide standards and guidelines for management of National Forest System land crossed by the Project. The SUP will govern use and occupancy of National Forest System land that is in the public interest while avoiding and minimizing adverse effects and ensuring consistency with land and resource management plans.

FLPMA provides both the BLM and the Forest Service with discretion to authorize use of land they administer via ROWs or SUPs, taking into consideration impacts on natural and cultural resources. In doing so, the BLM and the Forest Service both must endeavor “to minimize damage to scenic and esthetic values and fish and wildlife habitat and otherwise protect the environment.” (43 U.S.C. 1765). The BLM and the Forest Service are reviewing the Proposed Action and other alternatives and will decide whether to approve, approve with modifications, or deny TransCanyon's application, and may include terms, conditions, and stipulations authorized by law and regulation.

Proposed Action and Alternatives

TransCanyon's Proposed Action includes an approximately 214-mile, 1,500-megawatt, 500-kV high-voltage alternating current (HVAC) overhead transmission line which would be constructed between the Clover Substation in central Utah and the Robinson Summit Substation in east-central Nevada. The Project would be situated within a 250-foot-wide ROW, 125 feet from centerline, which would maintain separation from other existing extra-high-voltage transmission lines as required by the North American Electric Reliability Corporation. The Project facilities would include a 500-kV HVAC overhead transmission line, new substation equipment at the Clover Substation in central Utah (within the existing substation footprint) and at the Robinson Summit Substation in east-central Nevada (within a 46-acre proposed expansion), regeneration stations near the line for the fiber optic ground wire, series compensation station(s), temporary and permanent access roads, and temporary work areas associated with construction activities.

In addition to the Proposed Action and No Action Alternative (i.e., not granting the ROW/SUP), alternatives include modifications to the proposed route. Three alternative routes to reduce impacts on resources of concern were developed before the public scoping period during workshops with agency interdisciplinary teams and cooperating agencies. A fourth alternative was developed after the public scoping period in response to Tribal concerns.

Alternative A (Agency Preferred Alternative)

Alternative A would replace a portion of the Proposed Action in southeastern Juab County and northeastern Millard County, Utah, which would minimize potential effects to private landowners and their viewsheds in the area near Leamington, Utah, and would minimize potential effects to the Sevier River and agricultural property.

Alternative A would largely follow the approved but currently unbuilt TransWest Express Transmission Project (TransWest Express) ROW, deviate from the Proposed Action in the east, and cross BLM-administered land and pass through a Greater Sage-grouse (GRSG) General Habitat Management Area, where the line is not co-located with the approved TransWest Express ROW. It would then follow the route of the approved TransWest Express ROW until it rejoins the Proposed Action at the line between Juab and Millard Counties. A 23-mile-long segment of the Proposed Action would be replaced with the 27-mile-long segment of Alternative A, which would increase the total length of the route from 214 miles to 218 miles.

Alternative B

Alternative B would replace a portion of the Proposed Action alignment in central and western Millard County, Utah, which would minimize crossings of the Sevier A and Sevier B Military Operating Area (low-level flight training areas) that are part of the Department of Defense's Utah Test and Training Range (UTTR).

Alternative B would cross into Beaver County, Utah, following identified utility corridors to the Milford, Utah, area, then turn west and north following an identified utility corridor (with no current aboveground utilities) back to the Proposed Action alignment near the Utah-Nevada State line. A 69-mile-long segment of the Proposed Action would be replaced with the 158-mile-long segment of Alternative B, which would increase the total length of the route from 214 miles to 304 miles.

Alternative C

Alternative C would replace a portion of the Proposed Action alignment in eastern White Pine County, Nevada, and was developed in consideration of concerns regarding the culturally sensitive Swamp Cedars Area of Critical Concern and Bahsahwahbee Traditional Cultural Property.

This alternative would diverge from the Proposed Action alignment and follow U.S. Highway 6/50 southwest, then follow State Route 893 northwest back to the Proposed Action alignment. A 7-mile-long segment of the Proposed Action would be replaced with the 13-mile-long segment of Alternative C, which would increase the total length of the route from 214 miles to 221 miles.

Alternative D

Alternative D was developed to avoid sensitive resource areas in Spring Valley, Nevada. Alternative D would replace a portion of the Proposed Action alignment in Millard County, Utah, and eastern White Pine County, Nevada. Alternative D would follow Alternative B through Beaver County, Utah, then depart from Alternative B shortly after reentering Millard County, Utah. It would then head west, north of the county line, rerouted in the southwest corner of Millard County, Utah, to avoid the Lands with Wilderness Characteristic (LWC) Inventory Unit Jackson Wash (UT-C010-121), and cross into Lincoln County, Nevada. From there, the route would head west, then southwest to an Ely District resource management plan (RMP) corridor near Atlanta, Nevada. The route would then follow the RMP corridor west and south until it intersects the Section 368 Energy Corridor that contains the existing One Nevada Transmission Line. It would then follow the One Nevada Transmission Line north to the Robinson Summit Substation. A 145-mile-long segment of the Proposed Action route would be replaced with the 297-mile-long segment of Alternative D, which would increase the total length of the route from 214 miles to 366 miles.

Key Mitigation Measures

The Project is anticipated to cause direct and indirect impacts during construction, O&M, and decommissioning. During construction, impacts would occur from land disturbance; operation of construction equipment; installation of towers, access roads, and other facilities; and presence of work forces. During O&M, impacts would occur from continued presence of Project facilities and from maintenance activities. Impacts from decommissioning would be similar to those expected from the construction phase. Cumulative impacts from relevant reasonably foreseeable future actions are disclosed in the FEIS.

Applicant-Committed Environmental Protection Measures (ACEPMs) are included as part of the Agency Preferred Alternative and have been identified to reduce impacts on environmental resources. These measures would apply to all action alternatives. TransCanyon and its contractors would adhere to the ACEPMs identified during the engineering/design phase and to the measures addressing construction and O&M activities. A full list of the ACEPMs can be found in Appendix A: Plan of Development. Additionally, direct and indirect impacts to GRSG habitat have been analyzed and used to determine compensatory mitigation requirements.

Lead and Cooperating Agencies

The BLM, as the lead Federal agency for preparing the EIS, invited Federal, Tribal, State, and local agencies to serve as cooperating agencies. In total, 56 agencies were invited. The following entities accepted the invitation and are participating as cooperating agencies:

Federal Agencies

• Forest Service (Humboldt-Toiyabe National Forest, Ely Ranger District)

• U.S. Environmental Protection Agency

• Department of Defense, Military Aviation and Installation Assurance Siting Clearinghouse

• Department of Defense, UTTR

• U.S. Fish and Wildlife Service.

State Agencies

• Utah Public Lands Policy Coordinating Office, with multiple State of Utah entities participating through this office:

○ University of Utah Telescope Array Project

○ Utah Department of Agriculture and Food

○ Utah Department of Transportation

○ Utah Division of Wildlife Resources

○ Utah Trust Lands Administration

• Nevada Department of Wildlife

• Nevada Division of Minerals

• Nevada Sagebrush Ecosystem Program

• Nevada Division of State Lands

• Nevada N-4 State Grazing Board

Local Agencies

• Beaver County, Utah

• Juab County, Utah

• Millard County, Utah

• Lincoln County, Nevada

• Nye County, Nevada

• White Pine County, Nevada

• City of Ely, Nevada

• Lincoln County Conservation District

Tribal Governments

• Duckwater Shoshone Tribe

• Te-Moak Tribe of Western Shoshone-Elko Band

The BLM and Forest Service have also engaged in government-to-government consultation with affected Tribes and will continue Tribal engagement during all phases of the planning process in accordance with applicable Federal statutes, regulations, and other authorities, including the National Historic Preservation Act, the American Indian Religious Freedom Act, Executive Order 13175 (Consultation and Coordination with Indian Tribal Governments), and Executive Order 13007 (Indian Sacred Sites).

Public Involvement

The BLM published a Notice of Intent (NOI) to prepare the EIS in the Federal Register on May 2, 2022 (87 FR 25656). The scoping process began with the publication of the NOI in the Federal Register, and ran from May 2, 2022, to June 1, 2022. During the scoping period, the BLM sought public comments to identify issues to be addressed in the EIS.

Two virtual public scoping meetings were held on May 17 and May 18, 2022. In total, 59 letter submissions were received from the public during the scoping period either via the U.S. Postal Service, email, recorded telephone line, or via telephone to the BLM Project Manager.

The BLM published a Draft EIS Notice of Availability (NOA) in the Federal Register on November 9, 2023 (88 FR 77358). Although the NOA defined the end date of the public comment period as January 2, 2024, the BLM extended the comment period through January 9, 2024. The BLM held four in-person meetings and one virtual meeting in November and December 2023. Meetings were held in Nephi, Milford, and Delta, Utah, and Ely, Nevada. The BLM also met with the Leamington, Utah town council in December 2023.

The BLM received a total of 583 submissions during the public comment period. Of the submissions, 420 were identical copy letters, 89 were form letters with additional text, 73 were unique letters, and one was a duplicate submission. Principle comment issues included:

• Wildlife impact concerns, including birds, bats, big game, amphibians, pollinators and insects, general wildlife, special-status species, and GRSG;

• Lands with Wilderness Characteristics impact concerns;

• Visual resource impact concerns; and

• Cultural resource impact concerns.

Public and stakeholder comments also provided specific edits and corrections to EIS sections and general support or opposition to the proposed Project.

Final EIS Revisions

Comments on the Draft EIS received from the public and internal BLM review were considered and incorporated as appropriate into the Final EIS. Public comments resulted in the addition of clarifications and analysis, but comments did not identify significant new circumstances or information relevant to environmental concerns that have bearing upon the proposed action.

In response to public comments on the Draft EIS, revisions were made to the Final EIS. The agency made micrositing changes within the 0.5-mile wide siting corridor at Marjum Pass in Millard County, Utah, which is analyzed as part of the Agency Preferred Alternative within the Final EIS. The LWC, Transportation, Visual Resources, and Wilderness Study Areas sections of the Final EIS include updated analysis for the Agency Preferred Alternative micrositing at Marjum Pass. Impacts from the Agency Preferred Alternative would be the same as described under the Proposed Action for the following: air quality; climate change/greenhouse gases; cultural and heritage resources; fire and fuels management; geology, minerals, and renewable energy production; inventoried roadless areas; land use; livestock grazing; noxious and invasive weeds; paleontology; recreation; socioeconomics and environmental justice; soils; vegetation; water resources; wildlife; and woodlands.

In addition to micrositing in Marjum Pass, the agency widened the 0.5-mile-wide siting corridor in two specific areas (Utah-Nevada border west of Garrison, Utah; and Steptoe Valley, Nevada) where public comments noted administrative constraints that would preclude or interfere with existing infrastructure, private lands, and specially managed areas. Widening the siting corridor in these locations allows for the flexibility of the centerline to shift. The 0.5-mile-wide siting corridor was also reduced after publication of the Draft EIS in multiple locations across Nevada to remove locations outside designated utility corridors. These are locations where siting of the transmission line would not be in conformance with the Nevada and Northeastern California Greater Sage-Grouse Approved Resource Management Plan Amendment (Nevada-California ARMPA) (BLM 2015b), as described below. The 0.5-mile-wide siting corridor and centerline were also shifted in the southwest corner of Millard County, Utah, to avoid the LWC Inventory Unit Jackson Wash (UT-C010-121).

In early 2024, the United States Geological Survey issued a draft annual update report related to GRSG that disclosed an adaptive management trigger identified in the Nevada-California ARMPA that was tripped for the third year in a row for a lek cluster within the area near the western terminus of the Project at Robinson Summit Substation (Prochazka et al. 2024). The individual annual triggers are defined as soft triggers in the Nevada-California ARMPA, and the plan provided that tripping three soft triggers in consecutive years (2021, 2022, and 2023) equates to a hard trigger. In response to tripping a hard trigger, the ARMPA identifies any land outside designated utility corridors and within GRSG habitat management areas as exclusion areas for new high-voltage transmission. There is an approximately 1-mile-long segment of the proposed Project and action alternatives that would be located outside the designated utility corridor across GRSG habitat management areas and whose authorization would not conform to the approved Nevada-California ARMPA based on this new information. Through a separate process, the BLM is currently reconsidering its 2015 GRSG planning decisions, including its management of the lands being considered for this proposed Project segment. The BLM published a NOA for the draft GRSG RMP amendments on March 15, 2024. The BLM will ensure that its decision responding to the application for the Project will conform to the land use plans approved at the time of the record of decision, consistent with 43 CFR 1610.5-3.

Additional updates were made to address public concerns within the following resource sections: renewable energy resources, visual resources, Reasonably Foreseeable Future Actions and cumulative impacts, GRSG, and LWC.

Agency Decisions

Based on the environmental analysis in this Final EIS, the BLM Utah State Director will decide whether to authorize the ROW grant, authorize with modifications, or deny the application based on the proposed Project, alternatives, or any combination thereof on Public Lands. The Forest Service will issue a separate ROD specific to its decision whether to authorize a SUP on National Forest System land.

(Authority: 40 CFR 1506.6, 40 CFR 1506.10)

Christina Judd,
Acting State Director, Utah.

[FR Doc. 2024-21279 Filed 9-19-24; 8:45 am]

BILLING CODE 4331-25-P